DEPARTMENT OF COMMERCE

International Trade Administration

[C-570-980]

Crystalline Silicon Photovoltaic Cells, Whether or Not Assembled Into Modules, From the People's Republic of China: Postponement of Preliminary Determination in the Countervailing Duty Investigation

AGENCY: Import Administration, International Trade Administration, Commerce.

FOR FURTHER INFORMATION CONTACT: Gene Calvert, Jun Jack Zhao, or Emily Halle, AD/CVD Operations, Office 6, Import Administration, International Trade Administration, U.S. Department of Commerce, 14th Street and Constitution Avenue NW., Washington, DC 20230; telephone: (202) 482-3586, (202) 482-1396 or (202) 482-0176, respectively.

SUPPLEMENTARY INFORMATION:

Background

On December 21, 2011, based on a timely request from the petitioner, SolarWorld Industries America, Inc. (Petitioner), the Department of Commerce (the Department) extended the due date for the preliminary determination in the countervailing duty investigation of crystalline silicon photovoltaic cells, whether or not assembled into modules, from the People's Republic of China, to no later than February 13, 2012.¹ Petitioner made a second timely request on January 19, 2012, to further postpone the preliminary countervailing duty determination by 18 days, to March 2, 2012, which the Department granted.²

¹ See Crystalline Silicon Photovoltaic Cells, Whether or Not Assembled Into Modules, From the People's Republic of China: Postponement of Preliminary Determination in the Countervailing Duty Investigation, 76 FR 81914 (December 29, 2011).

² See Crystalline Silicon Photovoltaic Cells, Whether or Not Assembled Into Modules, From the People's Republic of China: Second Postponement of Preliminary Determination in the Countervailing Duty Investigation, 77 FR 4764 (January 31, 2012).

Postponement of Due Date for the Preliminary Determination

Section 703(b)(1) of the Tariff Act of 1930, as amended (the Act), requires the Department to issue the preliminary determination in a countervailing duty investigation within 65 days after the date on which the Department initiated the investigation. However, if the Department concludes that the parties concerned in the investigation are cooperating and determines that the investigation is extraordinarily complicated, section 703(c)(1)(B) of the Act allows the Department to postpone making the preliminary determination until no later than 130 days after the date on which the administering authority initiated the investigation.

The Department has determined that the parties involved in this proceeding are cooperating, and that the investigation is extraordinarily complicated.³ The mandatory respondents recently filed extensive questionnaire responses and also identified and included responses to the questionnaire for multiple cross-owned affiliated companies, which now are included in the investigation.⁴ Specifically, the Department is investigating 27 alleged subsidy programs including, but not limited to, loans, grants, income tax incentives, and the provision of goods and services for less than adequate remuneration. Due to the number of companies and the complexity of the alleged countervailable subsidy practices being investigated, we determine that this investigation is extraordinarily complicated. Therefore, in accordance with section 703(c)(1)(B) of the Act, we are fully extending the due date for the preliminary determination to no later than 130 days after the day on which the investigation was initiated. However, as that date falls on a Saturday (i.e., March 17, 2012), the deadline for completion of the preliminary determination is now Monday, March 19, 2012, the next business day.⁵

³ See section 703(c)(1)(B) of the Act.

⁴ See letter from Changzhou Trina Solar Energy Co., Ltd., regarding, “Crystalline Silicon Photovoltaic Cells, Whether or Not Assembled into Modules, from the People's Republic of China; CVD Questionnaire Response of Changzhou Trina Solar Energy Co., Ltd.,” dated January 31, 2012. See also letter from Wuxi Suntech Power Co. Ltd., regarding, “Crystalline Silicon Photovoltaic (“CSPV”) Cells from the People's Republic of China: Countervailing Duty Questionnaire Response of Wuxi Suntech Power Co., Ltd.,” dated January 31, 2012.

⁵ See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: February 15, 2012.
Paul Piquado,
Assistant Secretary for Import Administration.

[FR Doc. 2012-4119 Filed 2-21-12; 8:45 am]

BILLING CODE 3510-DS-P